DEPARTMENT OF THE INTERIOR

Bureau of Land Management

[BLM_MT_FRN_MO4500181171]

Notice of Public Meeting of the Western Montana Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Western Montana Resource Advisory Council (RAC) will meet as follows.

DATES: The RAC will hold a meeting on September 24, 2024, from 9 a.m. to 4 p.m. Mountain Time (MT). A virtual participation option will be available to the public. Individuals who want to participate virtually must register at least 1 week in advance of the meeting to allow the BLM time to plan for the number of individuals who wish to participate.

ADDRESSES: The meeting will be held at the BLM Butte Field Office, 106 North Parkmont, Butte, MT 59701. The final agenda and virtual participation instructions will be confirmed for the public via BLM online announcement, social media, on the RAC's web page at https://www.blm.gov/get-involved/resource-advisory-council/near-you/montana-dakotas/western-montana-rac, and through personal contact at least 2 weeks prior to the meeting.

Written comments for the RAC may be sent electronically in advance of the scheduled meeting to Ann Boucher, aboucher@blm.gov, or in writing to BLM Western Montana District/Public Affairs, 106 N. Parkmont, Butte, MT 59701.

FOR FURTHER INFORMATION CONTACT: Ann Boucher, BLM Montana/Dakotas State Office, telephone: (406) 896-5255, email: aboucher@blm.gov. Individuals in the United States who are deaf, blind, hard of hearing, or have a speech disability may dial 711 (TTY, TDD, or TeleBraille) to access telecommunications relay services. Individuals outside the United States should use the relay services offered within their country to make international calls to the point-of-contact in the United States.

Please make requests in advance for sign language interpreter services, language translation services, assistive listening devices, or other reasonable accommodations. We ask that you contact the person listed above at least 14 business days prior to the meeting to give the Department of the Interior sufficient time to process your request. All reasonable accommodation requests are managed on a case-by-case basis.

SUPPLEMENTARY INFORMATION: The RAC provides recommendations to the Secretary of the Interior concerning the planning and management of the public land resources located within the BLM's Western Montana District. Agenda topics for the September 24, 2024, meeting include a discussion about the Madison River Fee Proposal, updates from field managers, and other resource management issues the RAC may raise. While the meeting is scheduled to conclude at 4 p.m. MT, it may end earlier or later depending on the needs of RAC members. Therefore, members of the public interested in a specific agenda item or discussion should schedule their arrival accordingly.

The meeting is open to the public and a 30-minute public comment period will be offered at 3:30 p.m. MT. Depending on the number of persons wishing to speak and the time available, the amount of time for oral comments may be limited. Before including your address, phone number, email address, or other personal identifying information in written comments, you should be aware that your entire comment—including your personal identifying information—may be made publicly available at any time. While you can ask us in your comment to withhold your personal identifying information from public review, we cannot guarantee that we will be able to do so.

Detailed minutes for RAC meetings are maintained in the BLM Western Montana District Office. Minutes will also be posted to the RAC's web page at: https://www.blm.gov/get-involved/resource-advisory-council/near-you/montana-dakotas/western-montana-rac.

(Authority: 43 CFR 1784.4-2)

Carrie H. Cecil,
Acting Western Montana BLM District Manager.

[FR Doc. 2024-18987 Filed 8-22-24; 8:45 am]

BILLING CODE 4331-20-P